DEPARTMENT OF LABOR

Office of the Secretary; Submission for OMB review; comment request

Dated: February 16, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz (202) 219-5096 ext. 159 or by E-mail to Kurz-Karin@dol.gov). To obtain documentation for ESA, MSHA, OHSA, and VETS contact Darrin King (202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 (202) 395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Type of Review: Reinstatement, without change.

Agency: Employment and Training Administration.

Title: Labor Condition Application and Requirements for Employer Using Nonimmigrants on H-1B Visas.

OMB Number: 1205-0310.

Affected Public: Individuals or households; State, Local, or Tribal governments, business or other for-profit; not-for-profit institution.

Activity | Number of respondents | Frequency | Average time per response (Min) | Total respondent burden (Hrs.)
Review Instructions | 200,000 | On Occasion | 15 | 50,000
Compile Information/File | 200,000 | On Occasion | 30 | 100,000
Complete/Submit/Post | 200,000 | On Occasion | 15 | 50,000
File Complaints | 200,000 | On Occasion | 15 | 50
Total | 200,000 | On Occasion | 60 | 200,000

Total Annualized capital/startup costs: $0

Total annual costs (operating/maintaining systems or purchasing services): $0

Description: The application form and other requirements in these regulations for employers seeking to use H-1B non-immigrants in specialty occupations and as fashion models will permit the Department of Labor to meet its statutory responsibilities for program administration, management, and oversight.

Ira L. Mills
Departmental Clearance Officer.

[FR Doc. 00-4213 Filed 2-22-00; 8:45 am]

BILLING CODE 4510-30-M